NUCLEAR REGULATORY COMMISSION

Draft Regulatory Guides; Issuance, Availability

The Nuclear Regulatory Commission has issued for public comment four draft guides in its Regulatory Guide Series. This series has been developed to describe and make available to the public such information as methods acceptable to the NRC staff for implementing specific parts of the NRC's regulations, techniques used by the staff in evaluating specific problems or postulated accidents, and data needed by the staff in its review of applications for permits and licenses.

The draft guides all pertain to licensees' use of Code Cases of the American Society of Mechanical Engineers (ASME) Boiler and Pressure Vessel Code, and the guides are being developed to provide updated guidance on the use of Code Cases. Code Cases provide alternatives that have been developed and approved by ASME or they explain the intent of existing Code requirements. The proposed Revision 32 of combined Regulatory Guides 1.84 and 1.85, temporarily identified by its task number, DG-1090 (which should be mentioned in all correspondence concerning this draft guide), is “Design, Fabrication, and Materials Code Case Acceptability, ASME Section III.” This draft guide provides guidance that is acceptable to the NRC staff for licensees on the use of ASME Section III Code Cases.

Draft Regulatory Guide DG-1091, “Inservice Inspection Code Case Acceptability, ASME Section XI, Division 1,” is the proposed Revision 13 of Regulatory Guide 1.147, which provides guidance that is acceptable to the NRC staff for licensees on the use of ASME Section XI Code Cases.

Draft Regulatory Guide DG-1089, “Operation and Maintenance Code Case Acceptability, ASME OM Code,” is being developed to provide guidance that is acceptable to the NRC staff for licensees on the use of ASME OM Code Cases.

Draft Regulatory Guide DG-1112, “ASME Code Cases Not Approved for Use,” is being developed to provide guidance to licensees on the ASME Code Cases that have not been approved by the NRC. The reasons the Code Cases were not approved are also stated.

These draft guides have not received complete staff approval and do not represent an official NRC staff position.

Comments may be accompanied by relevant information or supporting data. Written comments may be submitted to the Rules and Directives Branch, Office of Administration, U.S. Nuclear Regulatory Commission, Washington, DC 20555. Copies of comments received may be examined at the NRC Public Document Room, 11555 Rockville Pike, Rockville, MD. Comments will be most helpful if received by March 25, 2002.

Comments may also be provided via the NRC's interactive rulemaking web site through the NRC homepage (http://www.nrc.gov). This site provides the availability to upload comments as files (any format) if your web browser supports that function. For information about the interactive rulemaking web site, contact Ms. Carol Gallagher, (301) 415-5905; e-mail CAG@NRC.GOV. For information about the draft guides, contact Mr. W.E. Norris at (301) 415-6796; e-mail WEN@NRC.GOV.

Although a time limit is given for comments on these draft guides, comments and suggestions in connection with items for inclusion in guides currently being developed or improvements in all published guides are encouraged at any time.

Regulatory guides are available for inspection at the NRC's Public Document Room, 11555 Rockville Pike, Rockville, MD; the PDR's mailing address is USNRC PDR, Washington, DC 20555; telephone (301) 415-4737 or (800) 397-4205; fax (301) 415-3548; e-mail PDR@NRC>GOV. Requests for single copies of draft or final guides (which may be reproduced) or for placement on an automatic distribution list for single copies of future draft guides in specific divisions should be made in writing to the U.S. Nuclear Regulatory Commission, Washington, DC 20555, Attention: Reproduction and Distribution Services Section; or by e-mail to DISTRIBUTION@NRC.GOV; or by fax to (301) 415-2289. Telephone requests cannot be accommodated. Regulatory guides are not copyrighted, and Commission approval is not required to reproduce them.

(5 U.S.C. 552(a))
Dated at Rockville, Maryland, this 12th day of December 2001.
For the Nuclear Regulatory Commission.
Michael E. Mayfield,
Director, Division of Engineering Technology, Office of Nuclear Regulatory Research.

[FR Doc. 01-31929 Filed 12-27-01; 8:45 am]

BILLING CODE 7590-01-P